DEPARTMENT OF AGRICULTURE

Agricultural Marketing Service

7 CFR Part 1205

[Doc. #CN-02-002]

Cotton Board Rules and Regulations: Adjusting Supplemental Assessment on Imports, (2002 Amendments)

AGENCY: Agricultural Marketing Service, USDA.

ACTION: Proposed rule.

SUMMARY: The Agricultural Marketing Service (AMS) is proposing to amend the Cotton Board Rules and Regulations by lowering the value assigned to imported cotton for the purpose of calculating supplemental assessments collected for use by the Cotton Research and Promotion Program. An adjustment is required on an annual basis to ensure that the assessments collected on imported cotton and the cotton content of imported products remain similar to those paid on domestically produced cotton.

DATES: Comments must be received on or before May 2, 2002.

ADDRESSES: Interested persons are invited to submit written comments concerning this proposed rule to Whitney Rick, Chief, Research and Promotion Staff, Cotton Program, Agricultural Marketing Service, USDA, STOP 0224, Washington, DC 20250-0224. Comments should be submitted in triplicate. Comments may also be submitted electronically to: cottoncomments@usda.gov. All comments should reference the docket number and the date and page number of this issue of the Federal Register. All comments received will be made available for public inspection at Cotton Program, AMS, USDA, Room 2641-S, 1400 Independence Ave., SW., Washington, DC 20250 during regular business hours. A copy of this notice may be found at: www.ams.usda.gov/cotton/rulemaking.htm.

FOR FURTHER INFORMATION CONTACT: Whitney Rick, Chief, Research and Promotion Staff, Cotton Program, AMS, USDA, Stop 0224, 1400 Independence Ave., SW., Washington, DC 20250-0224, telephone (202) 720-2259, facsimile (202) 690-1718, or e-mail at whitney.rick@usda.gov.

SUPPLEMENTARY INFORMATION:

Executive Order 12866

The Office of Management and Budget has waived the review process required by Executive Order 12866 for this action.

Executive Order 12988

This proposed rule has been reviewed under Executive Order 12988, Civil Justice Reform. It is not intended to have retroactive effect. This proposed rule would not preempt any state or local laws, regulations, or policies, unless they present an irreconcilable conflict with this rule.

The Cotton Research and Promotion Act provides that administrative proceedings must be exhausted before parties may file suit in court. Under Section 12 of the Act, any person subject to an order may file with the Secretary a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of ruling.

Regulatory Flexibility Act

Pursuant to requirements set forth in the Regulatory Flexibility Act (RFA) (5 U.S.C. 601 et seq.) AMS has considered the economic impact of this action on small entities and has determined that its implementation will not have a significant economic impact on a substantial number of small businesses.

There are an estimated 10,000 importers who are presently subject to rules and regulations issued pursuant to the Cotton Research and Promotion Order. This proposed rule would affect importers of cotton and cotton-containing products. The majority of these importers are small businesses under the criteria established by the Small Business Administration. This proposed rule would lower the assessments paid by the importers under the Cotton Research and Promotion Order. Even though the assessment would be lowered, the decrease is small and will not significantly affect small businesses. The current assessment on imported cotton is $0.009965 per kilogram of imported cotton. The proposed assessment is $0.00862, a decrease of $0.001345 or a 13.5 percent decrease. From January through December 2001 approximately $22 million was collected. Should the volume of cotton products imported into the U.S. remain at the same level in 2002, one could expect the decreased assessment to generate approximately $19 million or a 13.5 percent decrease from 2001.

Paperwork Reduction

In compliance with Office of Management and Budget (OMB) regulations (5 CFR part 1320) which implement the Paperwork Reduction Act (PRA) (44 U.S.C. 3501 et seq.) the information collection requirements contained in the regulation to be amended have been previously approved by OMB and were assigned control number 0581-0093.

Background

The Cotton Research and Promotion Act Amendments of 1990 enacted by Congress under Subtitle G of Title XIX of the Food, Agriculture, Conservation and Trade Act of 1990 on November 28, 1990, contained two provisions that authorized changes in the funding procedures for the Cotton Research and Promotion Program.

These provisions are: (1) The assessment of imported cotton and cotton products; and (2) termination of the right of cotton producers to demand a refund of assessments.

An amended Cotton Research and Promotion Order was approved by producers and importers voting in a referendum held July 17-26, 1991, and the amended Order was published in the Federal Register on December 10, 1991, (56 FR 64470). A proposed rule implementing the amended Order was published in the Federal Register on December 17, 1991, (56 FR 65450). Implementing rules were published on July 1 and 2, 1992, (57 FR 29181) and (57 FR 29431), respectively.

This proposed rule would decrease the value assigned to imported cotton in the Cotton Board Rules and Regulations (7 CFR 1205.510(b)(2)). This value is used to calculate supplemental assessments on imported cotton and the cotton content of imported products. Supplemental assessments are the second part of a two-part assessment. The first part of the assessment is levied on the weight of cotton produced or imported at a rate of $1 per bale of cotton which is equivalent to 500 pounds or $1 per 226.8 kilograms of cotton.

Supplemental assessments are levied at a rate of five-tenths of one percent of the value of domestically produced cotton, imported cotton, and the cotton content of imported products. The agency has adopted the practice of assigning the calendar year weighted average price received by U.S. farmers for Upland cotton to represent the value of imported cotton. This is done so that the assessment on domestically produced cotton and the assessment on imported cotton and the cotton content of imported products remain similar. The source for the average price statistic is “Agricultural Prices”, a publication of the National Agricultural Statistics Service (NASS) of the Department of Agriculture. Use of the weighted average price figure in the calculation of supplemental assessments on imported cotton and the cotton content of imported products yields an assessment that approximates assessments paid on domestically produced cotton in the prior calendar year.

The current value of imported cotton as published in the Federal Register (66 FR 58051) on November 20, 2001, for the purpose of calculating supplemental assessments on imported cotton is $1.1111 per kilogram. This number was calculated using the annual weighted average price received by farmers for Upland cotton during the calendar year 2000 which was $0.504 per pound and multiplying by the conversion factor 2.2046. Using the Average Weighted Price Received by U.S. farmers for Upland cotton for the calendar year 2001, which is $0.382 per pound, the new value of imported cotton is $0.8422 per kilogram. The proposed value is $.2689 per kilogram less than the previous value.

An example of the complete assessment formula and how the various figures are obtained is as follows:

One bale is equal to 500 pounds.

One kilogram equals 2.2046 pounds.

One pound equals 0.453597 kilograms.

One Dollar Per Bale Assessment Converted to Kilograms

A 500 pound bale equals 226.8 kg. (500 × .453597).

$1 per bale assessment equals $0.002000 per pound (1/500) or $0.004409 per kg. (1/226.8).

Supplemental Assessment of 5/10 of One Percent of the Value of the Cotton Converted to Kilograms

The 2001 calendar year weighted average price received by producers for Upland cotton is $0.382 per pound or $0.8422 per kg. (0.382 × 2.2046).

Five tenths of one percent of the average price in kg. equals $0.004211 per kg. (0.8422 x .005).

Total Assessment

The total assessment per kilogram of raw cotton is obtained by adding the $1 per bale equivalent assessment of $0.004409 per kg. and the supplemental assessment $0.004211 per kg. which equals $0.00862 per kg.

The current assessment on imported cotton is $0.009965 per kilogram of imported cotton. The proposed assessment is $0.00862, a decrease of $0.001345 per kilogram. This decrease reflects the decrease in the Average Weighted Price of Upland Cotton Received by U.S. Farmers during the period January through December 2001.

Since the value of cotton is the basis of the supplemental assessment calculation and the figures shown in the right hand column of the Import Assessment Table 1205.510(b)(3) are a result of such a calculation, the figures in this table have been revised. These figures indicate the total assessment per kilogram due for each Harmonized Tariff Schedule (HTS) number subject to assessment.

A thirty day comment period is provided to comment on the changes to the Cotton Board Rules and Regulations proposed herein. This period is deemed appropriate because this proposal would lower the assessments paid by importers under the Cotton Research and Promotion Order. Accordingly, the change proposed in this rule, if adopted, should be implemented as soon as possible.

Several changes in the harmonized tariff schedule numbering have occurred. Modifications to the harmonized tariff schedule were published in the December 26, 2001, Federal Register at 66 FR 66549 (Proclamation 7515 of December 18, 2001, by the President of the United States of America). These changes are as follows:

Numbers changed:

Old No. | New No(s). | Conversion factor | Assessment cents/kg
5607902000 | 5607909000 | 0.8889 | 0.7662
6002203000 | 6003203000 | 0.8681 | 0.7483
6002206000 | 6003306000 | 0.2894 | 0.2495
| 6003406000 |  |
600242000 | 6005210000 | 0.8681 | 0.7483
| 6005220000 |  |
| 6005220000 |  |
| 6005230000 |  |
| 6005240000 |  |
6002430010 | 6005310010 | 0.2894 | 0.2495
| 6005320010 |  |
| 6005330010 |  |
| 6005340010 |  |
| 6005410010 |  |
| 6005420010 |  |
| 6005430010 |  |
| 6005440010 |  |
6002430080 | 6005310080 | 0.2894 | 0.2495
| 6005320080 |  |
| 6005330080 |  |
| 6005340080 |  |
| 6005410080 |  |
| 6005420080 |  |
| 6005430080 |  |
| 6005440080 |  |
6002921000 | 6006211000 | 1.1574 | 0.9977
| 6006221000 |  |
| 6006231000 |  |
| 6006241000 |  |
6002930040 | 6006310040 | 0.1157 | 0.0997
| 6006320040 |  |
| 6006330040 |  |
| 6006340040 |  |
6002930080 | 6006310080 | 0.1157 | 0.0897
| 6006320080 |  |
| 6006330080 |  |
| 6006340080 |  |
| 6006410085 |  |
| 6006420085 |  |
| 6006430085 |  |
| 6006440085 |  |

List of Subjects in 7 CFR Part 1205

Advertising, Agricultural research, Cotton, Marketing agreements, Reporting and recordkeeping requirements.

For the reasons set forth in the preamble 7 CFR part 1205 is proposed to be amended as follows:

PART 1205—COTTON RESEARCH AND PROMOTION

1. The authority citation for Part 1205 continues to read as follows:

Authority: 7 U.S.C. 2101-2118.

2. In “1205.510, paragraph (b)(2) and the table in paragraph (b)(3)(ii) are revised to read as follows:

1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $0.862 per kilogram.

(3) * * *

(ii) * * *

Import Assessment Table
[Raw cotton fiber]
HTS No. | Conv. fact. | Cents/ kg.
5201000500 | 0 | 0.8620
5201001200 | 0 | 0.8620
5201001400 | 0 | 0.8620
5201001800 | 0 | 0.8620
5201002200 | 0 | 0.8620
5201002400 | 0 | 0.8620
5201002800 | 0 | 0.8620
5201003400 | 0 | 0.8620
5201003800 | 0 | 0.8620
5204110000 | 1.1111 | 0.9578
5204200000 | 1.1111 | 0.9578
5205111000 | 1.1111 | 0.9578
5205112000 | 1.1111 | 0.9578
5205121000 | 1.1111 | 0.9578
5205122000 | 1.1111 | 0.9578
5205131000 | 1.1111 | 0.9578
5205132000 | 1.1111 | 0.9578
5205141000 | 1.1111 | 0.9578
5205210020 | 1.1111 | 0.9578
5205210090 | 1.1111 | 0.9578
5205220020 | 1.1111 | 0.9578
5205220090 | 1.1111 | 0.9578
5205230020 | 1.1111 | 0.9578
5205230090 | 1.1111 | 0.9578
5205240020 | 1.1111 | 0.9578
5205240090 | 1.1111 | 0.9578
5205310000 | 1.1111 | 0.9578
5205320000 | 1.1111 | 0.9578
5205330000 | 1.1111 | 0.9578
5205340000 | 1.1111 | 0.9578
5205410020 | 1.1111 | 0.9578
5205410090 | 1.1111 | 0.9578
5205420020 | 1.1111 | 0.9578
5205420090 | 1.1111 | 0.9578
5205440020 | 1.1111 | 0.9578
5205440090 | 1.1111 | 0.9578
5206120000 | 0.5556 | 0.4789
5206130000 | 0.5556 | 0.4789
5206140000 | 0.5556 | 0.4789
5206220000 | 0.5556 | 0.4789
5206230000 | 0.5556 | 0.4789
5206240000 | 0.5556 | 0.4789
5206310000 | 0.5556 | 0.4789
5207100000 | 1.1111 | 0.9578
5207900000 | 0.5556 | 0.4789
5208112020 | 1.1455 | 0.9874
5208112040 | 1.1455 | 0.9874
5208112090 | 1.1455 | 0.9874
5208114020 | 1.1455 | 0.9874
5208114060 | 1.1455 | 0.9874
5208114090 | 1.1455 | 0.9874
5208118090 | 1.1455 | 0.9874
5208124020 | 1.1455 | 0.9874
5208124040 | 1.1455 | 0.9874
5208124090 | 1.1455 | 0.9874
5208126020 | 1.1455 | 0.9874
5208126040 | 1.1455 | 0.9874
5208126060 | 1.1455 | 0.9874
5208126090 | 1.1455 | 0.9874
5208128020 | 1.1455 | 0.9874
5208128090 | 1.1455 | 0.9874
5208130000 | 1.1455 | 0.9874
5208192020 | 1.1455 | 0.9874
5208192090 | 1.1455 | 0.9874
5208194020 | 1.1455 | 0.9874
5208194090 | 1.1455 | 0.9874
5208196020 | 1.1455 | 0.9874
5208196090 | 1.1455 | 0.9874
5208224040 | 1.1455 | 0.9874
5208224090 | 1.1455 | 0.9874
5208226020 | 1.1455 | 0.9874
5208226060 | 1.1455 | 0.9874
5208228020 | 1.1455 | 0.9874
5208230000 | 1.1455 | 0.9874
5208292020 | 1.1455 | 0.9874
5208292090 | 1.1455 | 0.9874
5208294090 | 1.1455 | 0.9874
5208296090 | 1.1455 | 0.9874
5208298020 | 1.1455 | 0.9874
5208312000 | 1.1455 | 0.9874
5208321000 | 1.1455 | 0.9874
5208323020 | 1.1455 | 0.9874
5208323040 | 1.1455 | 0.9874
5208323090 | 1.1455 | 0.9874
5208324020 | 1.1455 | 0.9874
5208324040 | 1.1455 | 0.9874
5208325020 | 1.1455 | 0.9874
5208330000 | 1.1455 | 0.9874
5208392020 | 1.1455 | 0.9874
5208392090 | 1.1455 | 0.9874
5208394090 | 1.1455 | 0.9874
5208396090 | 1.1455 | 0.9874
5208398020 | 1.1455 | 0.9874
5208412000 | 1.1455 | 0.9874
5208416000 | 1.1455 | 0.9874
5208418000 | 1.1455 | 0.9874
5208421000 | 1.1455 | 0.9874
5208423000 | 1.1455 | 0.9874
5208424000 | 1.1455 | 0.9874
5208425000 | 1.1455 | 0.9874
5208430000 | 1.1455 | 0.9874
5208492000 | 1.1455 | 0.9874
5208494020 | 1.1455 | 0.9874
5208494090 | 1.1455 | 0.9874
5208496010 | 1.1455 | 0.9874
5208496090 | 1.1455 | 0.9874
5208498090 | 1.1455 | 0.9874
5208512000 | 1.1455 | 0.9874
5208516060 | 1.1455 | 0.9874
5208518090 | 1.1455 | 0.9874
5208523020 | 1.1455 | 0.9874
5208523045 | 1.1455 | 0.9874
5208523090 | 1.1455 | 0.9874
5208524020 | 1.1455 | 0.9874
5208524045 | 1.1455 | 0.9874
5208524065 | 1.1455 | 0.9874
5208525020 | 1.1455 | 0.9874
5208530000 | 1.1455 | 0.9874
5208592025 | 1.1455 | 0.9874
5208592095 | 1.1455 | 0.9874
5208594090 | 1.1455 | 0.9874
5208596090 | 1.1455 | 0.9874
5209110020 | 1.1455 | 0.9874
5209110035 | 1.1455 | 0.9874
5209110090 | 1.1455 | 0.9874
5209120020 | 1.1455 | 0.9874
5209120040 | 1.1455 | 0.9874
5209190020 | 1.1455 | 0.9874
5209190040 | 1.1455 | 0.9874
5209190060 | 1.1455 | 0.9874
5209190090 | 1.1455 | 0.9874
5209210090 | 1.1455 | 0.9874
5209220020 | 1.1455 | 0.9874
5209220040 | 1.1455 | 0.9874
5209290040 | 1.1455 | 0.9874
5209290090 | 1.1455 | 0.9874
5209313000 | 1.1455 | 0.9874
5209316020 | 1.1455 | 0.9874
5209316035 | 1.1455 | 0.9874
5209316050 | 1.1455 | 0.9874
5209316090 | 1.1455 | 0.9874
5209320020 | 1.1455 | 0.9874
5209320040 | 1.1455 | 0.9874
5209390020 | 1.1455 | 0.9874
5209390040 | 1.1455 | 0.9874
5209390060 | 1.1455 | 0.9874
5209390080 | 1.1455 | 0.9874
5209390090 | 1.1455 | 0.9874
5209413000 | 1.1455 | 0.9874
5209416020 | 1.1455 | 0.9874
5209416040 | 1.1455 | 0.9874
5209420020 | 1.0309 | 0.8886
5209420040 | 1.0309 | 0.8886
5209430030 | 1.1455 | 0.9874
5209430050 | 1.1455 | 0.9874
5209490020 | 1.1455 | 0.9874
5209490090 | 1.1455 | 0.9874
5209516035 | 1.1455 | 0.9874
5209516050 | 1.1455 | 0.9874
5209520020 | 1.1455 | 0.9874
5209590025 | 1.1455 | 0.9874
5209590040 | 1.1455 | 0.9874
5209590090 | 1.1455 | 0.9874
5210114020 | 0.6873 | 0.5925
5210114040 | 0.6873 | 0.5925
5210116020 | 0.6873 | 0.5925
5210116040 | 0.6873 | 0.5925
5210116060 | 0.6873 | 0.5925
5210118020 | 0.6873 | 0.5925
5210120000 | 0.6873 | 0.5925
5210192090 | 0.6873 | 0.5925
5210214040 | 0.6873 | 0.5925
5210216020 | 0.6873 | 0.5925
5210216060 | 0.6873 | 0.5925
5210218020 | 0.6873 | 0.5925
5210314020 | 0.6873 | 0.5925
5210314040 | 0.6873 | 0.5925
5210316020 | 0.6873 | 0.5925
5210318020 | 0.6873 | 0.5925
5210414000 | 0.6873 | 0.5925
5210416000 | 0.6873 | 0.5925
5210418000 | 0.6873 | 0.5925
5210498090 | 0.6873 | 0.5925
5210514040 | 0.6873 | 0.5925
5210516020 | 0.6873 | 0.5925
5210516040 | 0.6873 | 0.5925
5210516060 | 0.6873 | 0.5925
5211110090 | 0.6873 | 0.5925
5211120020 | 0.6873 | 0.5925
5211190020 | 0.6873 | 0.5925
5211190060 | 0.6873 | 0.5925
5211210025 | 0.6873 | 0.5925
5211210035 | 0.4165 | 0.3590
5211210050 | 0.6873 | 0.5925
5211290090 | 0.6873 | 0.5925
5211320020 | 0.6873 | 0.5925
5211390040 | 0.6873 | 0.5925
5211390060 | 0.6873 | 0.5925
5211490020 | 0.6873 | 0.5925
5211490090 | 0.6873 | 0.5925
5211590025 | 0.6873 | 0.5925
5212146090 | 0.9164 | 0.7899
5212156020 | 0.9164 | 0.7899
5212216090 | 0.9164 | 0.7899
5509530030 | 0.5556 | 0.4789
5509530060 | 0.5556 | 0.4789
5513110020 | 0.4009 | 0.3456
5513110040 | 0.4009 | 0.3456
5513110060 | 0.4009 | 0.3456
5513110090 | 0.4009 | 0.3456
5513120000 | 0.4009 | 0.3456
5513130020 | 0.4009 | 0.3456
5513210020 | 0.4009 | 0.3456
5513310000 | 0.4009 | 0.3456
5514120020 | 0.4009 | 0.3456
5516420060 | 0.4009 | 0.3456
5516910060 | 0.4009 | 0.3456
5516930090 | 0.4009 | 0.3456
5601210010 | 1.1455 | 0.9874
5601210090 | 1.1455 | 0.9874
5601300000 | 1.1455 | 0.9874
5602109090 | 0.5727 | 0.4937
5602290000 | 1.1455 | 0.9874
5602906000 | 0.526 | 0.4534
5604900000 | 0.5556 | 0.4789
5607909000 | 0.8889 | 0.7662
5608901000 | 1.1111 | 0.9578
5608902300 | 1.1111 | 0.9578
5609001000 | 1.1111 | 0.9578
5609004000 | 0.5556 | 0.4789
5701104000 | 0.0556 | 0.0479
5701109000 | 0.1111 | 0.0958
5701901010 | 1.0444 | 0.9003
5702109020 | 1.1 | 0.9482
5702312000 | 0.0778 | 0.0671
5702411000 | 0.0722 | 0.0622
5702412000 | 0.0778 | 0.0671
5702421000 | 0.0778 | 0.0671
5702913000 | 0.0889 | 0.0766
5702991010 | 1.1111 | 0.9578
5702991090 | 1.1111 | 0.9578
5703900000 | 0.4489 | 0.3870
5801210000 | 1.1455 | 0.9874
5801230000 | 1.1455 | 0.9874
5801250010 | 1.1455 | 0.9874
5801250020 | 1.1455 | 0.9874
5801260020 | 1.1455 | 0.9874
5802190000 | 1.1455 | 0.9874
5802300030 | 0.5727 | 0.4937
5804291000 | 1.1455 | 0.9874
5806200010 | 0.3534 | 0.3046
5806200090 | 0.3534 | 0.3046
5806310000 | 1.1455 | 0.9874
5806400000 | 0.4296 | 0.3703
5808107000 | 0.5727 | 0.4937
5808900010 | 0.5727 | 0.4937
5811002000 | 1.1455 | 0.9874
6001106000 | 1.1455 | 0.9874
6001210000 | 0.8591 | 0.7405
6001220000 | 0.2864 | 0.2469
6001910010 | 0.8591 | 0.7405
6001910020 | 0.8591 | 0.7405
6001920020 | 0.2864 | 0.2469
6001920030 | 0.2864 | 0.2469
6001920040 | 0.2864 | 0.2469
6003203000 | 0.8681 | 0.7483
6003306000 | 0.2894 | 0.2495
6003406000 | 0.2894 | 0.2495
6005210000 | 0.8681 | 0.7483
6005220000 | 0.8681 | 0.7483
6005230000 | 0.8681 | 0.7483
6005240000 | 0.8681 | 0.7483
6005310010 | 0.2894 | 0.2495
6005320010 | 0.2894 | 0.2495
6005330010 | 0.2894 | 0.2495
6005340010 | 0.2894 | 0.2495
6005410010 | 0.2894 | 0.2495
6005420010 | 0.2894 | 0.2495
6005430010 | 0.2894 | 0.2495
6005440010 | 0.2894 | 0.2495
6005310080 | 0.2894 | 0.2495
6005320080 | 0.2894 | 0.2495
6005330080 | 0.2894 | 0.2495
6005340080 | 0.2894 | 0.2495
6005410080 | 0.2894 | 0.2495
6005420080 | 0.2894 | 0.2495
6005430080 | 0.2894 | 0.2495
6005440080 | 0.2894 | 0.2495
6006211000 | 1.1574 | 0.9977
6006221000 | 1.1574 | 0.9977
6006231000 | 1.1574 | 0.9977
6006241000 | 1.1574 | 0.9977
6006310040 | 0.1157 | 0.0997
6006320040 | 0.1157 | 0.0997
6006330040 | 0.1157 | 0.0997
6006340040 | 0.1157 | 0.0997
6006310080 | 0.1157 | 0.0997
6006320080 | 0.1157 | 0.0997
6006330080 | 0.1157 | 0.0997
6006340080 | 0.1157 | 0.0997
6006410085 | 0.1157 | 0.0997
6006420085 | 0.1157 | 0.0997
6006430085 | 0.1157 | 0.0997
6006440085 | 0.1157 | 0.0997
6101200010 | 1.0094 | 0.8701
6101200020 | 1.0094 | 0.8701
6102200010 | 1.0094 | 0.8701
6102200020 | 1.0094 | 0.8701
6103421020 | 0.8806 | 0.7591
6103421040 | 0.8806 | 0.7591
6103421050 | 0.8806 | 0.7591
6103421070 | 0.8806 | 0.7591
6103431520 | 0.2516 | 0.2169
6103431540 | 0.2516 | 0.2169
6103431550 | 0.2516 | 0.2169
6103431570 | 0.2516 | 0.2169
6104220040 | 0.9002 | 0.7760
6104220060 | 0.9002 | 0.7760
6104320000 | 0.9207 | 0.7936
6104420010 | 0.9002 | 0.7760
6104420020 | 0.9002 | 0.7760
6104520010 | 0.9312 | 0.8027
6104520020 | 0.9312 | 0.8027
6104622006 | 0.8806 | 0.7591
6104622011 | 0.8806 | 0.7591
6104622016 | 0.8806 | 0.7591
6104622021 | 0.8806 | 0.7591
6104622026 | 0.8806 | 0.7591
6104622028 | 0.8806 | 0.7591
6104622030 | 0.8806 | 0.7591
6104622060 | 0.8806 | 0.7591
6104632006 | 0.3774 | 0.3253
6104632011 | 0.3774 | 0.3253
6104632026 | 0.3774 | 0.3253
6104632028 | 0.3774 | 0.3253
6104632030 | 0.3774 | 0.3253
6104632060 | 0.3774 | 0.3253
6104692030 | 0.3858 | 0.3326
6105100010 | 0.985 | 0.8491
6105100020 | 0.985 | 0.8491
6105100030 | 0.985 | 0.8491
6105202010 | 0.3078 | 0.2653
6105202030 | 0.3078 | 0.2653
6106100010 | 0.985 | 0.8491
6106100020 | 0.985 | 0.8491
6106100030 | 0.985 | 0.8491
6106202010 | 0.3078 | 0.2653
6106202030 | 0.3078 | 0.2653
6107110010 | 1.1322 | 0.9760
6107110020 | 1.1322 | 0.9760
6107120010 | 0.5032 | 0.4338
6107210010 | 0.8806 | 0.7591
6107220015 | 0.3774 | 0.3253
6107220025 | 0.3774 | 0.3253
6107910040 | 1.2581 | 1.0845
6108210010 | 1.2445 | 1.0728
6108210020 | 1.2445 | 1.0728
6108310010 | 1.1201 | 0.9655
6108310020 | 1.1201 | 0.9655
6108320010 | 0.2489 | 0.2146
6108320015 | 0.2489 | 0.2146
6108320025 | 0.2489 | 0.2146
6108910005 | 1.2445 | 1.0728
6108910015 | 1.2445 | 1.0728
6108910025 | 1.2445 | 1.0728
6108910030 | 1.2445 | 1.0728
6108920030 | 0.2489 | 0.2146
6109100005 | 0.9956 | 0.8582
6109100007 | 0.9956 | 0.8582
6109100009 | 0.9956 | 0.8582
6109100012 | 0.9956 | 0.8582
6109100014 | 0.9956 | 0.8582
6109100018 | 0.9956 | 0.8582
6109100023 | 0.9956 | 0.8582
6109100027 | 0.9956 | 0.8582
6109100037 | 0.9956 | 0.8582
6109100040 | 0.9956 | 0.8582
6109100045 | 0.9956 | 0.8582
6109100060 | 0.9956 | 0.8582
6109100065 | 0.9956 | 0.8582
6109100070 | 0.9956 | 0.8582
6109901007 | 0.3111 | 0.2682
6109901009 | 0.3111 | 0.2682
6109901049 | 0.3111 | 0.2682
6109901050 | 0.3111 | 0.2682
6109901060 | 0.3111 | 0.2682
6109901065 | 0.3111 | 0.2682
6109901090 | 0.3111 | 0.2682
6110202005 | 1.1837 | 1.0203
6110202010 | 1.1837 | 1.0203
6110202015 | 1.1837 | 1.0203
6110202020 | 1.1837 | 1.0203
6110202025 | 1.1837 | 1.0203
6110202030 | 1.1837 | 1.0203
6110202035 | 1.1837 | 1.0203
6110202040 | 1.1574 | 0.9977
6110202045 | 1.1574 | 0.9977
6110202065 | 1.1574 | 0.9977
6110202075 | 1.1574 | 0.9977
6110909022 | 0.263 | 0.2267
6110909024 | 0.263 | 0.2267
6110909030 | 0.3946 | 0.3401
6110909040 | 0.263 | 0.2267
6110909042 | 0.263 | 0.2267
6111201000 | 1.2581 | 1.0845
6111202000 | 1.2581 | 1.0845
6111203000 | 1.0064 | 0.8675
6111205000 | 1.0064 | 0.8675
6111206010 | 1.0064 | 0.8675
6111206020 | 1.0064 | 0.8675
6111206030 | 1.0064 | 0.8675
6111206040 | 1.0064 | 0.8675
6111305020 | 0.2516 | 0.2169
6111305040 | 0.2516 | 0.2169
6112110050 | 0.7548 | 0.6506
6112120010 | 0.2516 | 0.2169
6112120030 | 0.2516 | 0.2169
6112120040 | 0.2516 | 0.2169
6112120050 | 0.2516 | 0.2169
6112120060 | 0.2516 | 0.2169
6112390010 | 1.1322 | 0.9760
6112490010 | 0.9435 | 0.8133
6114200005 | 0.9002 | 0.7760
6114200010 | 0.9002 | 0.7760
6114200015 | 0.9002 | 0.7760
6114200020 | 1.286 | 1.1085
6114200040 | 0.9002 | 0.7760
6114200046 | 0.9002 | 0.7760
6114200052 | 0.9002 | 0.7760
6114200060 | 0.9002 | 0.7760
6114301010 | 0.2572 | 0.2217
6114301020 | 0.2572 | 0.2217
6114303030 | 0.2572 | 0.2217
6115198010 | 1.0417 | 0.8979
6115929000 | 1.0417 | 0.8979
6115936020 | 0.2315 | 0.1996
6116101300 | 0.3655 | 0.3151
6116101720 | 0.8528 | 0.7351
6116926420 | 1.0965 | 0.9452
6116926430 | 1.2183 | 1.0502
6116926440 | 1.0965 | 0.9452
6116928800 | 1.0965 | 0.9452
6117809510 | 0.9747 | 0.8402
6117809540 | 0.3655 | 0.3151
6201121000 | 0.948 | 0.8172
6201122010 | 0.8953 | 0.7717
6201122050 | 0.6847 | 0.5902
6201122060 | 0.6847 | 0.5902
6201134030 | 0.2633 | 0.2270
6201921000 | 0.9267 | 0.7988
6201921500 | 1.1583 | 0.9985
6201922010 | 1.0296 | 0.8875
6201922021 | 1.2871 | 1.1095
6201922031 | 1.2871 | 1.1095
6201922041 | 1.2871 | 1.1095
6201922051 | 1.0296 | 0.8875
6201922061 | 1.0296 | 0.8875
6201931000 | 0.3089 | 0.2663
6201933511 | 0.2574 | 0.2219
6201933521 | 0.2574 | 0.2219
6201999060 | 0.2574 | 0.2219
6202121000 | 0.9372 | 0.8079
6202122010 | 1.1064 | 0.9537
6202122025 | 1.3017 | 1.1221
6202122050 | 0.8461 | 0.7293
6202122060 | 0.8461 | 0.7293
6202134005 | 0.2664 | 0.2296
6202134020 | 0.333 | 0.2870
6202921000 | 1.0413 | 0.8976
6202921500 | 1.0413 | 0.8976
6202922026 | 1.3017 | 1.1221
6202922061 | 1.0413 | 0.8976
6202922071 | 1.0413 | 0.8976
6202931000 | 0.3124 | 0.2693
6202935011 | 0.2603 | 0.2244
6202935021 | 0.2603 | 0.2244
6203122010 | 0.1302 | 0.1122
6203221000 | 1.3017 | 1.1221
6203322010 | 1.2366 | 1.0659
6203322040 | 1.2366 | 1.0659
6203332010 | 0.1302 | 0.1122
6203392010 | 1.1715 | 1.0098
6203399060 | 0.2603 | 0.2244
6203422010 | 0.9961 | 0.8586
6203422025 | 0.9961 | 0.8586
6203422050 | 0.9961 | 0.8586
6203422090 | 0.9961 | 0.8586
6203424005 | 1.2451 | 1.0733
6203424010 | 1.2451 | 1.0733
6203424015 | 0.9961 | 0.8586
6203424020 | 1.2451 | 1.0733
6203424025 | 1.2451 | 1.0733
6203424030 | 1.2451 | 1.0733
6203424035 | 1.2451 | 1.0733
6203424040 | 0.9961 | 0.8586
6203424045 | 0.9961 | 0.8586
6203424050 | 0.9238 | 0.7963
6203424055 | 0.9238 | 0.7963
6203424060 | 0.9238 | 0.7963
6203431500 | 0.1245 | 0.1073
6203434010 | 0.1232 | 0.1062
6203434020 | 0.1232 | 0.1062
6203434030 | 0.1232 | 0.1062
6203434040 | 0.1232 | 0.1062
6203498045 | 0.249 | 0.2146
6204132010 | 0.1302 | 0.1122
6204192000 | 0.1302 | 0.1122
6204198090 | 0.2603 | 0.2244
6204221000 | 1.3017 | 1.1221
6204223030 | 1.0413 | 0.8976
6204223040 | 1.0413 | 0.8976
6204223050 | 1.0413 | 0.8976
6204223060 | 1.0413 | 0.8976
6204223065 | 1.0413 | 0.8976
6204292040 | 0.3254 | 0.2805
6204322010 | 1.2366 | 1.0659
6204322030 | 1.0413 | 0.8976
6204322040 | 1.0413 | 0.8976
6204423010 | 1.2728 | 1.0972
6204423030 | 0.9546 | 0.8229
6204423040 | 0.9546 | 0.8229
6204423050 | 0.9546 | 0.8229
6204423060 | 0.9546 | 0.8229
6204522010 | 1.2654 | 1.0908
6204522030 | 1.2654 | 1.0908
6204522040 | 1.2654 | 1.0908
6204522070 | 1.0656 | 0.9185
6204522080 | 1.0656 | 0.9185
6204533010 | 0.2664 | 0.2296
6204594060 | 0.2664 | 0.2296
6204622010 | 0.9961 | 0.8586
6204622025 | 0.9961 | 0.8586
6204622050 | 0.9961 | 0.8586
6204624005 | 1.2451 | 1.0733
6204624010 | 1.2451 | 1.0733
6204624020 | 0.9961 | 0.8586
6204624025 | 1.2451 | 1.0733
6204624030 | 1.2451 | 1.0733
6204624035 | 1.2451 | 1.0733
6204624040 | 1.2451 | 1.0733
6204624045 | 0.9961 | 0.8586
6204624050 | 0.9961 | 0.8586
6204624055 | 0.9854 | 0.8494
6204624060 | 0.9854 | 0.8494
6204624065 | 0.9854 | 0.8494
6204633510 | 0.2546 | 0.2195
6204633530 | 0.2546 | 0.2195
6204633532 | 0.2437 | 0.2101
6204633540 | 0.2437 | 0.2101
6204692510 | 0.249 | 0.2146
6204692540 | 0.2437 | 0.2101
6204699044 | 0.249 | 0.2146
6204699046 | 0.249 | 0.2146
6204699050 | 0.249 | 0.2146
6205202015 | 0.9961 | 0.8586
6205202020 | 0.9961 | 0.8586
6205202025 | 0.9961 | 0.8586
6205202030 | 0.9961 | 0.8586
6205202035 | 1.1206 | 0.9660
6205202046 | 0.9961 | 0.8586
6205202050 | 0.9961 | 0.8586
6205202060 | 0.9961 | 0.8586
6205202065 | 0.9961 | 0.8586
6205202070 | 0.9961 | 0.8586
6205202075 | 0.9961 | 0.8586
6205302010 | 0.3113 | 0.2683
6205302030 | 0.3113 | 0.2683
6205302040 | 0.3113 | 0.2683
6205302050 | 0.3113 | 0.2683
6505302070 | 0.3113 | 0.2683
6205302080 | 0.3113 | 0.2683
6206100040 | 0.1245 | 0.1073
6206303010 | 0.9961 | 0.8586
6206303020 | 0.9961 | 0.8586
6206303030 | 0.9961 | 0.8586
6206303040 | 0.9961 | 0.8586
6206303050 | 0.9961 | 0.8586
6206303060 | 0.9961 | 0.8586
6206403010 | 0.3113 | 0.2683
6206403030 | 0.3113 | 0.2683
6206900040 | 0.249 | 0.2146
6207110000 | 1.0852 | 0.9354
6207199010 | 0.3617 | 0.3118
6207210030 | 1.1085 | 0.9555
6207220000 | 0.3695 | 0.3185
6207911000 | 1.1455 | 0.9874
6207913010 | 1.1455 | 0.9874
6207913020 | 1.1455 | 0.9874
6208210010 | 1.0583 | 0.9123
6208210020 | 1.0583 | 0.9123
6208220000 | 0.1245 | 0.1073
6208911010 | 1.1455 | 0.9874
6208911020 | 1.1455 | 0.9874
6208913010 | 1.1455 | 0.9874
6209201000 | 1.1577 | 0.9979
6209203000 | 0.9749 | 0.8404
6209205030 | 0.9749 | 0.8404
6209205035 | 0.9749 | 0.8404
6209205040 | 1.2186 | 1.0504
6209205045 | 0.9749 | 0.8404
6209205050 | 0.9749 | 0.8404
6209303020 | 0.2463 | 0.2123
6209303040 | 0.2463 | 0.2123
6210109010 | 0.2291 | 0.1975
6210403000 | 0.0391 | 0.0337
6210405020 | 0.4556 | 0.3927
6211111010 | 0.1273 | 0.1097
6211111020 | 0.1273 | 0.1097
6211118010 | 1.1455 | 0.9874
6211118020 | 1.1455 | 0.9874
6211320007 | 0.8461 | 0.7293
6211320010 | 1.0413 | 0.8976
6211320015 | 1.0413 | 0.8976
6211320030 | 0.9763 | 0.8416
6211320060 | 0.9763 | 0.8416
6211320070 | 0.9763 | 0.8416
6211330010 | 0.3254 | 0.2805
6211330030 | 0.3905 | 0.3366
6211330035 | 0.3905 | 0.3366
6211330040 | 0.3905 | 0.3366
6211420010 | 1.0413 | 0.8976
6211420020 | 1.0413 | 0.8976
6211420025 | 1.1715 | 1.0098
6211420060 | 1.0413 | 0.8976
6211420070 | 1.1715 | 1.0098
6211430010 | 0.2603 | 0.2244
6211430030 | 0.2603 | 0.2244
6211430040 | 0.2603 | 0.2244
6211430050 | 0.2603 | 0.2244
6211430060 | 0.2603 | 0.2244
6211430066 | 0.2603 | 0.2244
6212105020 | 0.2412 | 0.2079
6212109010 | 0.9646 | 0.8315
6212109020 | 0.2412 | 0.2079
6212200020 | 0.3014 | 0.2598
6212900030 | 0.1929 | 0.1663
6213201000 | 1.1809 | 1.0179
6213202000 | 1.0628 | 0.9161
6213901000 | 0.4724 | 0.4072
6214900010 | 0.9043 | 0.7795
6216000800 | 0.2351 | 0.2027
6216001720 | 0.6752 | 0.5820
6216003800 | 1.2058 | 1.0394
6216004100 | 1.2058 | 1.0394
6217109510 | 1.0182 | 0.8777
6217109530 | 0.2546 | 0.2195
6301300010 | 0.8766 | 0.7556
6301300020 | 0.8766 | 0.7556
6302100005 | 1.1689 | 1.0076
6302100008 | 1.1689 | 1.0076
6302100015 | 1.1689 | 1.0076
6302215010 | 0.8182 | 0.7053
6302215020 | 0.8182 | 0.7053
6302217010 | 1.1689 | 1.0076
6302217020 | 1.1689 | 1.0076
6302217050 | 1.1689 | 1.0076
6302219010 | 0.8182 | 0.7053
6302219020 | 0.8182 | 0.7053
6302219050 | 0.8182 | 0.7053
6302222010 | 0.4091 | 0.3526
6302222020 | 0.4091 | 0.3526
6302313010 | 0.8182 | 0.7053
6302313050 | 1.1689 | 1.0076
6302315050 | 0.8182 | 0.7053
6302317010 | 1.1689 | 1.0076
6302317020 | 1.1689 | 1.0076
6302317040 | 1.1689 | 1.0076
6302317050 | 1.1689 | 1.0076
6302319010 | 0.8182 | 0.7053
6302319040 | 0.8182 | 0.7053
6302319050 | 0.8182 | 0.7053
6302322020 | 0.4091 | 0.3526
6302322040 | 0.4091 | 0.3526
6302402010 | 0.9935 | 0.8564
6302511000 | 0.5844 | 0.5038
6302512000 | 0.8766 | 0.7556
6302513000 | 0.5844 | 0.5038
6302514000 | 0.8182 | 0.7053
6302600010 | 1.1689 | 1.0076
6302600020 | 1.052 | 0.9068
6302600030 | 1.052 | 0.9068
6302910005 | 1.052 | 0.9068
6302910015 | 1.1689 | 1.0076
6302910025 | 1.052 | 0.9068
6302910035 | 1.052 | 0.9068
6302910045 | 1.052 | 0.9068
6302910050 | 1.052 | 0.9068
6302910060 | 1.052 | 0.9068
6303110000 | 0.9448 | 0.8144
6303910010 | 0.6429 | 0.5542
6303910020 | 0.6429 | 0.5542
6304111000 | 1.0629 | 0.9162
6304190500 | 1.052 | 0.9068
6304191000 | 1.1689 | 1.0076
6304191500 | 0.4091 | 0.3526
6304192000 | 0.4091 | 0.3526
6304910020 | 0.9351 | 0.8061
6304920000 | 0.9351 | 0.8061
6505901540 | 0.181 | 0.1560
6505902060 | 0.9935 | 0.8564
6505902545 | 0.5844 | 0.5038

* * * * *

Dated: March 27, 2002.
A.J. Yates,
Administrator, Agricultural Marketing Service.

[FR Doc. 02-7919 Filed 4-1-02; 8:45 am]

BILLING CODE 3410-02-P